FEDERAL COMMUNICATIONS COMMISSION

47 CFR Parts 74 and 90

[ET Docket No. 02-16; FCC 02-27]

WRC Frequency Bands Below 28000 kHz

AGENCY: Federal Communications Commission.

ACTION: Final rule; clarification.

SUMMARY: This document prevents the licensing of Public Safety; Industrial/Business Pool, excluding Travelers' Information Stations (TIS); and remote pick up stations in the AM Expanded Band during the pendency of ET Docket No. 02-16. We take this action to permit the orderly and effective resolution of the issue of mobiles services (excluding TIS) operating in the AM Expanded Band. This action will have minimal impact because very few such applications are received from those eligible to operate in this band and because alternative land mobile spectrum is available for their use.

DATES: Effective April 8, 2002.

FOR FURTHER INFORMATION CONTACT: Tom Mooring, Office of Engineering and Technology, (202) 418-2450.

SUPPLEMENTARY INFORMATION: This is a summary of the Commission's Order, ET Docket No. 02-16, FCC 02-27, adopted January 30, 2002, and released February 7, 2002. The full text of this Commission decision is available on the Commission's Internet site at www.fcc.gov. It is available for inspection and copying during normal business hours in the FCC Reference Information Center, Room CY-A257, 445 12th Street, SW., Washington, DC, and also may be purchased from the Commission's duplication contractor, Qualex International, (202) 863-2893, Room CY-B402, 445 12th Street, SW, Washington, DC 20554.

Summary of the Order

1. In 1983, the Commission began a process to improve and revitalize the AM broadcast service that included the expansion of its available frequencies to include the band 1605-1705 kHz (“AM Expanded Band”). At that time, the primary fixed, land mobile, maritime mobile, aeronautical radionavigation, and radiolocation allocations were removed from the band 1605-1705 kHz. As licensees have recently begun service using the AM Expanded Band, we are finding that several issues affecting this spectrum need to be addressed.

2. When the land mobile allocation was removed from the band 1605-1705 kHz in 1983, frequencies within this band were inadvertently not removed from Parts 74 and 90 of our Rules. Accordingly, in the associated Notice of Proposed Rule Making in ET Docket No. 02-16, we proposed to remove these frequencies from Parts 74 and 90 of our Rules.

3. To prevent the licensing of Public Safety, Industrial/Business Pool, and remote pickup stations in the AM Expanded Band during the pendency of this proceeding, such applications will no longer be granted. We will no longer accept applications for new licenses or modifications or renewals of existing licenses for frequencies within the band 1605-1705 kHz as of the date of Federal Register Publications of this Order. Any such applications received on or after that date will be returned as unacceptable for filing. Pending applications will be dismissed, unless they are modified to specify alternative frequencies. We take this action to permit the orderly and effective resolution of the issue of mobile services (excluding TIS) operating in the AM Expanded Band. We anticipate this action will have minimal impact because very few such applications are received from Public Safety, Industrial/Business Pool, and remote pickup eligibles to operate in this band and because alternative land mobile spectrum is available.

Ordering Clause

4. Public Safety, Industrial/Business Pool, and remote pickup applications for frequencies within the band 1605-1705 kHz shall not be granted. The Commission shall not accept said applications for new licenses or modifications or renewals of existing licenses for frequencies within the band 1605-1705 kHz as of the April 8, 2002 of this Order. Any such applications received on or after that date shall be returned as unacceptable for filing. Pending applications shall be dismissed, unless they are modified to specify alternative frequencies.

Federal Communications Commission.
William F. Caton,
Acting Secretary.

[FR Doc. 02-7726 Filed 4-5-02; 8:45 am]

BILLING CODE 6712-01-P